DEPARTMENT OF THE INTERIOR

Bureau of Land Management

[LLID100000.L10200000.PH0000 LXSS024D0000 241A 4500088890]

Notice of Public Meeting, Idaho Falls District Resource Advisory Council Meeting

AGENCY: Bureau of Land Management, Interior.

ACTION: Notice of Public Meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Idaho Falls, Idaho, January 26-27, 2016. The first day will begin at 1:00 p.m. at the BLM Idaho Falls Office, 1405 Hollipark Drive, Idaho Falls, Idaho, with elections of a new chairman, vice chairman and secretary. The second day will be at the same location starting at 9:00 a.m. and adjourning at 12:30 p.m. Members of the public are invited to attend. A comment period will be held January 26, following introductions from 1:00-1:30. Other meeting topics includes, law enforcement efforts, travel management planning, district and field office updates, sage-grouse updates and resource management plan strategies. Additional topics will be scheduled as appropriate. All meetings are open to the public.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: December 16, 2015.
Mary D'Aversa,
District Manager, Idaho Falls District.

[FR Doc. 2015-32589 Filed 12-24-15; 8:45 am]

BILLING CODE 4310-GG-P